DEPARTMENT OF COMMERCE

National Oceanic and Atmospheric Administration

RIN 0648-XA707

Notice of Availability of a Draft Companion Manual for Executive Order 11988 Floodplain Management and Executive Order 11990 Protection of Wetlands

AGENCY: National Oceanic and Atmospheric Administration (NOAA), Commerce.

ACTION: Notice of availability; request for comments.

SUMMARY: NOAA announces the availability of a draft companion manual to provide agency-wide guidance for executing compliance with Executive Order 11988 Floodplain Management and Executive Order 11990 Protection of Wetlands. The companion manual provides procedures and guidance in accordance with specific sections of Executive Order 11988 and Executive Order 11990. The purpose of the companion manual is to promote quality and consistency in implementing floodplain management and protection of wetlands across the agency and to provide the necessary procedures to agency personnel.

DATES: Written comments and input will be accepted on or before September 30, 2011.

ADDRESSES: Written comments should be sent to Emily Johannes, Senior Environmental Technical Advisor, NOAA, Safety and Environmental Compliance Office, 1315 East-West Highway, Suite 11115, Silver Spring, MD 20910; e-mail emily.johannes@noaa.gov.

FOR FURTHER INFORMATION: Contact Emily Johannes, Senior Environmental Technical Advisor, NOAA, 301-713-2870 x132, emily.johannes@noaa.gov. A copy of the draft companion manual can be viewed or downloaded at http://www.seco.noaa.gov.

SUPPLEMENTARY INFORMATION: This notice announces the availability of a draft companion manual to provide agency-wide guidance for executing compliance with Executive Order 11988—Floodplain Management and Executive Order 11990—Protection of Wetlands. Executive Orders 11988 and 11990 require Federal agencies to avoid, mitigate, and minimize harm to floodplains and wetlands from land use and construction activities and to consider the public safety and conditions to property located in or adversely affecting floodplains. This companion manual provides procedures and guidance in accordance with section 4(d) of Executive Order 11988 and section 6 of Executive Order 11990. The purpose of the companion manual is to promote quality and consistency in implementing floodplain management and protection of wetlands across the agency. The companion manual provides agency-wide compliance processes and guidance for RPMs to use to efficiently and effectively comply with the Executive Orders when undertaking actions involving Federal lands, land use, or real property. NOAA is accepting comments on the draft companion manual for 15 calendar days, beginning on September 16, 2011, until September 30, 2011.

Written Comments

Today's publication is a notice of internal NOAA guidance and not a rulemaking. If you choose to submit comments, please limit such comments to issues pertinent to the companion manual itself and explain the reasons for any recommended changes. Where possible, reference the specific section or paragraph of the companion manual which you are addressing.

Before including your address, phone number, e-mail address, or other personal identifying information in your comment, you should be aware that your entire comment, including your personal identifying information, may be made publicly available at any time. If you wish us to withhold your name and/or address, phone number, e-mail address or other personal identifying information, you must state this prominently at the beginning of your comment.

Dated: September 9, 2011.
James Norris,
Director, Safety and Environmental Compliance Office, National Oceanic and Atmospheric Administration.

[FR Doc. 2011-23864 Filed 9-15-11; 8:45 am]

BILLING CODE 3510-22-P